DEPARTMENT OF TRANSPORTATION

Federal Aviation Administration

Notice of Intent to Request Renewal From the Office of Management and Budget (OMB) of Three Current Public Collections of Information

AGENCY: Federal Aviation Administration (FAA), DOT.

ACTION: Notice.

SUMMARY: In compliance with the Paperwork Reduction Act (44 U.S.C. 3501 et seq.), the FAA invites public comment on three currently approved public information collections which will be submitted to OMB for renewal.

DATES: Comments must be received on or before July 25, 2005.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0015, FAA Airport Master Record. 49 USC 329(b) directs the Secretary of Transportation to collection information about civil aeronautics. The information is required to carry out FAA missions related to the aviation industry, flight planning, and airport engineering. The database is the basic source of data for private, State, and Federal Government aeronautical charts and publications. The current estimated annual reporting burden is 8,770 hours.

2. 2120-0060, General Aviation and Air Taxi Activity and Avionics Survey. Respondents to this survey are owners of general aviation aircraft. This information issued by FAA, NTSB, and other government agencies, the aviation industry, and others for safety assessment, planning, forecasting, cost/benefit analysis, and to target areas for research. The current estimated annual reporting burden is 5,500 hours.

3. 2120-0680, Part 60—Flight Simulation Device Initial and Continuing Qualification and Use (NPRM). The collection of this information is necessary to ensure safety of flight by ensuring complete and adequate training, testing, checking, and experience is obtained and maintained by those who operate under Parts 61, 63, 91, 121, 135, 141, and 142 of the regulation and who use flight simulation in lieu of aircraft for these functions. The current estimated annual reporting burden is 201,653 hours.

Issued in Washington, DC, on May 17, 2005.
Judith D. Street,
FAA Information Systems and Technology Services Staff, ABA-20.

[FR Doc. 05-10417 Filed 5-24-05; 8:45 am]

BILLING CODE 4910-13-M